DEPARTMENT OF ENERGY

Federal Energy Regulatory Commission

[Project No. 2069-003 Arizona]

Arizona Public Service Company; Errata Notice; Notice of Site Visit and Technical Conference

December 8,18, 2000.

Anyone who wishes to attend the January 9, 2001, project site visit should contact Mr. Larry Johnson of Arizona Public Service Company at 480-350-3131 by 4:00 p.m. on Friday, January 5, 2001, rather than by 4:00 p.m. on Monday, January 8, 2001, as stated in the above-referenced notice published in the Federal Register on December 14, 2000, at 65 FR 78152.

David P. Boergers,
Secretary.

[FR Doc. 00-32699 Filed 12-21-00; 8:45 am]

BILLING CODE 6717-01-M